DEPARTMENT OF LABOR

Employment and Training Administration

[TA-W-63,197]

Dan River, Inc., Danville Operations, Danville, VA; Amended Notice of Revised Determination on Reconsideration

In accordance with Section 223 of the Trade Act of 1974 (19 U.S.C. 2273), and Section 246 of the Trade Act of 1974 (26 U.S.C. 2813), as amended, the Department of Labor issued a Notice of Revised Determination on Reconsideration on August 27, 2008, applicable to workers of Dan River, Inc., Danville Operations, Danville, Virginia. The notice was published in the Federal Register on September 8, 2008 (73 FR 52070-52071).

At the request of the State agency, the Department reviewed the Notice of Revised Determination on Reconsideration for workers of the subject firm. The workers are engaged in the production of package labels and packaging material.

The review shows that all workers of Dan River, Inc., Danville, Virginia, were previously certified eligible to apply for adjustment assistance under petition number TA-W-57,724, which expired on September 13, 2007.

Therefore, in order to avoid an overlap in worker group coverage, the Department is amending the April 14, 2007 impact date established for TA-W-63,197 to read September 14, 2007.

The amended notice applicable to TA-W-63,197 is hereby issued as follows:

“All workers of Dan River, Inc., Danville Operations, Danville, Virginia, who became totally or partially separated from employment on or after September 14, 2007 through August 27, 2010, are eligible to apply for adjustment assistance under Section 223 of the Trade Act of 1974, and are eligible to apply for alternative trade adjustment assistance under Section 246 of the Trade Act of 1974.”

Signed in Washington, DC., this 15th day of September 2008.
Elliott S. Kushner,
Certifying Officer, Division of Trade Adjustment Assistance.

[FR Doc. E8-22125 Filed 9-22-08; 8:45 am]

BILLING CODE 4510-FN-P